DEPARTMENT OF COMMERCE

Census Bureau

Agency Information Collection Activities; Submission to the Office of Management and Budget (OMB) for Review and Approval; Comment Request; Military Panel

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 6, 2023, during a 60-day comment period. This notice allows for an additional 30 days for public comments.

Agency: U.S. Census Bureau, Commerce.

Title: Military Panel.

OMB Control Number: 0607-XXXX.

Form Number(s): Not yet determined.

Type of Request: Regular submission, new information collection request.

Number of Respondents: 15,625 initial screened sample/2,000 panel members.

Average Hours per Response: 2 hours per year (10 minutes for screening; 20 minutes for bi-monthly collection).

Burden Hours: 6,604.

Needs and Uses: The Census Military Panel is a national survey panel by the U.S. Census Bureau (Census) and the U.S. Department of Defense (DOD) consisting of active-duty service members and spouses of active-duty service members that have agreed to be contacted and invited to participate. The ultimate goal for the Military Panel project is to recruit at least 2,000 panel members (1,000 service members and 1,000 spouses) including panelists recruited in the pilot and randomly selected directly from military administrative data.

Potential panelists will be mailed invitations and asked to participate in an online or inbound telephone screener. If the respondent qualifies, they will be invited to join the panel by completing the baseline questionnaire in the same mode (online or inbound telephone). Households who do not respond to the mailed invitation will be in sample for telephone nonresponse follow up. In these cases, an interviewer would administer the screener and the baseline questionnaire. Once they join the panel, panelists will be eligible for online topical surveys every other month for up to 3 years.

Affected Public: Individuals or households.

Frequency: Bi-monthly.

Respondent's Obligation: Voluntary.

Legal Authority: The Census Bureau, on behalf of the Department of Defense, is conducting this study under the authority of 10 U.S.C. 1782. The Census Bureau's authority to conduct surveys for other agencies is 13 U.S.C. 8(b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-14094 Filed 6-30-23; 8:45 am]

BILLING CODE 3510-07-P